SURFACE TRANSPORTATION BOARD

[Docket No. FD 36801]

Great Lakes Terminal Railroad, LLC—Lease and Operation Exemption—Norfolk Southern Railway Company

Great Lakes Terminal Railroad, LLC (GLTRR), a Class III carrier, has filed a verified notice of exemption pursuant to 49 CFR 1150.41 to lease and operate 14,215 feet (2.69 miles) of trackage in Chicago, Ill. (the Line), following the acquisition of the Line by Norfolk Southern Railway Company (NSR) from GLTRR's affiliated company, Great Lakes Terminal, LLC (GLT). According to the verified notice, the Line does not have mileposts. GLTRR has operated over the Line since 2018 pursuant to a lease agreement with GLT.¹

¹ The Board recently granted GLTRR after-the-fact authority to lease and operate approximately 22,568 feet of contiguous track in Chicago, which includes the Line. Great Lakes Terminal R.R.—Acquis. & Operation Exemption—Great Lakes Terminal, LLC, FD 36764 (Sub-No. 1) (STB served July 31, 2024). That decision addressed GLTRR's inadvertent failure to seek the necessary regulatory approval in 2018.

According to the verified notice, GLT has reached an agreement with NSR to sell NSR the Line on or after September 6, 2024. GLTRR states it has entered into a lease agreement with NSR to continue to operate the Line following the close of the sale. GLTRR states that the lease agreement will be effective on or after the effective date of the notice.

GLTRR certifies that its projected annual revenues are less than $5 million and are not expected to exceed those that would qualify it as a Class III carrier. GLTRR states that the transaction does not involve any provision or agreement that may limit future interchange with a third-party connecting carrier, nor is the Line currently subject to any agreement that imposes such an interchange commitment.

The transaction may be consummated on or after September 8, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 30, 2024 (at least seven days before the exemption becomes effective).

All pleadings, referring to Docket No. FD 36801, must be filed with the Surface Transportation Board either via e-filing on the Board's website or in writing addressed to 395 E Street SW, Washington, DC 20423-0001. In addition, a copy of each pleading must be served on GLTRR's representative, Crystal M. Zorbaugh, Mullins Law Group PLLC, 2001 L Street NW, Suite 720, Washington, DC 20036.

According to GLTRR, this action is categorically excluded from environmental review under 49 CFR 1105.6(c) and from historic preservation reporting requirements under 49 CFR 1105.8(b).

Board decisions and notices are available at www.stb.gov.

Decided: August 20, 2024.
By the Board, Scott M. Zimmerman, Acting Director, Office of Proceedings.
Kenyatta Clay,
Clearance Clerk.

[FR Doc. 2024-18978 Filed 8-22-24; 8:45 am]

BILLING CODE 4915-01-P